DEPARTMENT OF VETERANS AFFAIRS

Joint Biomedical Laboratory Research and Development and Clinical Science Research and Development Services Scientific Merit Review Board; Notice of Meetings

The Department of Veterans Affairs gives notice under Public Law 92-463 (Federal Advisory Committee Act), that the panels of the Joint Biomedical Laboratory Research and Development and Clinical Science Research and Development Services Scientific Merit Review Board will meet from 8 a.m. to 5 p.m. on the dates indicated below:

Panel | Date(s) | Location
Cardiovascular Studies | May 24, 2010 | St. Gregory Hotel & Suites.
Immunology-A | May 25, 2010 | L'Enfant Plaza Hotel.
Mental Hlth & Behav Sci-B | May 26, 2010 | Embassy Suites—Chevy Chase.
Neurobiology-E | May 26, 2010 | *VA Central Office.
Hematology | May 28, 2010 | *VA Central Office.
Epidemiology | June 2, 2010 | *VA Central Office.
Neurobiology-A | June 4, 2010 | Embassy Suites—Chevy Chase.
Nephrology | June 4, 2010 | Hotel Palomar.
Infectious Diseases-B | June 4, 2010 | L'Enfant Plaza Hotel.
Endocrinology-B | June 4, 2010 | *VA Central Office.
Cellular & Molecular Medicine | June 7, 2010 | Hotel Palomar.
Surgery | June 7, 2010 | Crowne Plaza.
Endocrinology-A | June 7, 2010 | L'Enfant Plaza Hotel.
Mental Hlth & Behav Sci-A | June 7, 2010 | L'Enfant Plaza Hotel.
Clinical Research Program | June 9, 2010 | *VA Central Office.
Oncology | June 10-11, 2010 | L'Enfant Plaza Hotel.
Neurobiology-C | June 10-11, 2010 | L'Enfant Plaza Hotel.
Gastroenterology | June 10, 2010 | L'Enfant Plaza Hotel.
Neurobiology-D | June 10, 2010 | L'Enfant Plaza Hotel.
Respiration | June 11, 2010 | L'Enfant Plaza Hotel.
Infectious Diseases-A | June 11, 2010 | L'Enfant Plaza Hotel.
Eligibility | July 19, 2010 | The Ritz-Carlton.
The addresses of the hotels and VA Central Office are:
Crowne Plaza Washington DC/Silver Spring, 8777 Georgia Avenue, Silver Spring, MD.
Embassy Suites at the Chevy Chase Pavilion, 4300 Military Road, NW., Washington, DC.
Hotel Palomar, 2121 P Street, NW., Washington, DC.
L'Enfant Plaza Hotel, 480 L'Enfant Plaza, SW., Washington, DC.
St. Gregory Hotel & Suites, 2033 M Street, NW., Washington, DC.
The Ritz-Carlton, 1150—22nd Street, NW., Washington, DC.
* VA Central Office, 1722 Eye Street, NW., Washington, DC.
* Teleconference.

The purpose of the Merit Review Board is to provide advice on the scientific quality, budget, safety and mission relevance of investigator-initiated research proposals submitted for VA merit review consideration. Proposals submitted for review by the Board involve a wide range of medical specialties within the general areas of biomedical, behavioral and clinical science research.

The panel meetings will be open to the public for approximately one hour at the start of each meeting to discuss the general status of the program. The remaining portion of each panel meeting will be closed to the public for the review, discussion, and evaluation of initial and renewal research proposals.

The closed portion of each meeting involves discussion, examination, reference to staff and consultant critiques of research proposals. During this portion of each meeting, discussion and recommendations will deal with qualifications of personnel conducting the studies, the disclosure of which would constitute a clearly unwarranted invasion of personal privacy, as well as research information, the premature disclosure of which could significantly frustrate implementation of proposed agency action regarding such research proposals.

As provided by subsection 10(d) of Public Law 92-463, as amended, closing portions of these panel meetings is in accordance with 5 U.S.C., 552b(c) (6) and (9)(B). Those who plan to attend or would like to obtain a copy of minutes of the panel meetings and rosters of the members of the panels should contact Leroy G. Frey, Ph.D., Chief, Program Review (121F), Department of Veterans Affairs, 810 Vermont Avenue, NW., Washington, DC 20420 at (202) 461-1664.

Dated: April 29, 2010.
By Direction of the Secretary.
Vivian Drake,
Acting Committee Management Officer.

[FR Doc. 2010-10394 Filed 5-3-10; 8:45 am]

BILLING CODE P